DEPARTMENT OF ENERGY

Federal Energy Regulatory Commission

[Docket No. EL16-32-000]

Talen Energy Marketing, LLC; Notice of Institution of Section 206 Proceeding and Refund Effective Date

On February 5, 2016, the Commission issued an order in Docket No. EL16-32-000, pursuant to section 206 of the Federal Power Act (FPA), 16 U.S.C. 824e (2012), instituting an investigation into the justness and reasonableness of Talen Energy Marketing, LLC's informational filing pursuant to Schedule 2 to the PJM Interconnection, LLC's Open Access Transmission Tariff supporting the revenue requirement for reactive supply and voltage control service (Reactive Service) of Talen Ironwood, LLC. Talen Energy Marketing, LLC, 154 FERC ¶ 61,087 (2016).

The refund effective date in Docket No. EL16-32-000, established pursuant to section 206(b) of the FPA, will be the date of publication of this notice in the Federal Register.

Dated: February 5, 2016.
Nathaniel J. Davis, Sr.,
Deputy Secretary.

[FR Doc. 2016-02759 Filed 2-10-16; 8:45 am]

BILLING CODE 6717-01-P